DEPARTMENT OF THE INTERIOR

Bureau of Land Management

[LLWO2100000 L11100000.DQ0000.LXSISGST0000]

Notice of Availability of the Great Basin Region Greater Sage-Grouse Proposed Land Use Plan Amendments and Final Environmental Impact Statements for the Sub-Regions of Idaho and Southwestern Montana; Nevada and Northeastern California; Oregon; and Utah

AGENCY: Bureau of Land Management, Interior.

ACTION: Notice of availability.

SUMMARY: In accordance with the National Environmental Policy Act of 1969 (NEPA), as amended, the Federal Land Policy and Management Act of 1976 (FLPMA), as amended, and the Resources Planning Act of 1974, as amended by the National Forest Management Act of 1976 (NFMA), the Bureau of Land Management (BLM) and U.S. Forest Service (Forest Service) have prepared Proposed Land Use Plan Amendments (LUPA) and Final Environmental Impact Statements (EISs) for planning units in Idaho, Southwestern Montana, Nevada, Northeastern California, Oregon, and Utah. There are four separate Final EISs being conducted in the Great Basin Region and this notice announces the availability of all four.

DATES: BLM planning regulations state that any person who meets the conditions as described in the regulations may protest the BLM's and Forest Service's Proposed LUP/Final EIS. A person who meets the conditions and files a protest must file the protest within 30 days of the date that the Environmental Protection Agency publishes its Notice of Availability in the Federal Register. In accordance with 36 CFR 219.59, the Forest Service will waive its objection procedures of this subpart and instead adopt the BLM's protest procedures outlined in 43 CFR 1610.5-2.

ADDRESSES: Copies of the Idaho and Southwestern Montana, Nevada and Northeastern California, Oregon, and Utah Greater Sage-Grouse Proposed LUPAs/Final EISs have been sent to affected Federal, State and local government agencies, tribal governments, and to other stakeholders and members of the public who have requested copies. Copies of the Proposed LUPAs/Final EISs are available for public inspecton at the addresses listed in the SUPPLEMENTARY INFORMATION section. Interested persons may also review the Proposed LUPAs/Final EISs on the internet at http://www.blm.gov/wo/st/en/prog/more/sagegrouse.html.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: For the Idaho and Southwestern Montana Greater Sage-Grouse Proposed LUPA/Final EIS: Jonathan Beck, BLM Idaho State Office GRSG Planning Lead, telephone 208-373-4070; address 1387 South Vinnell Way, Boise, ID 83709; email jmbeck@blm.gov.

For the Nevada and Northeastern California Greater Sage-Grouse Proposed LUPA/Final EIS: Lauren Mermejo, BLM Nevada State Office GRSG Project Lead, telephone 775-861-6580; address 1340 Financial Boulevard, Reno, NV 89502; email lmermejo@blm.gov.

For the Oregon Greater Sage-Grouse Proposed LUPA/Final EIS: Joan Suther, BLM Oregon State Office GRSG Planning Lead, telephone 541-573-4445; address BLM Burns District, 28910 Hwy 20, West Hines, OR 97738; email jsuther@blm.gov.

For the Utah Greater Sage-Grouse Proposed LUPA/Final EIS: Quincy Bahr, BLM Utah State Office GRSG Project Lead, telephone 801-539-4122; address 440 West 200 South, Suite 500, Salt Lake City, UT 84101-1345; email qfbahr@blm.gov.

Persons who use a telecommunications device for the deaf (TDD) may call the Federal Information Relay Service (FIRS) at 1-800-877-8339 to contact the above individuals during normal business hours. The FIRS is available 24 hours a day, 7 days a week, to leave a message or question with the above individual. You will receive a reply during normal business hours.

SUPPLEMENTARY INFORMATION: The BLM and Forest Service prepared the Idaho and Southwestern Montana, Nevada and Northeastern California, and Utah Greater Sage-Grouse LUPAs and EISs. The Oregon LUPA/EIS was prepared solely by the BLM because there were no National Forest System lands involved. All four of these Proposed LUPAs/Final EISs address a range of alternatives focused on specific conservation measures across the range of the Greater Sage-Grouse (GRSG). All four of these EISs are part of a total of 15 separate EISs that make up the BLM and Forest Service National Greater Sage-Grouse Planning Strategy. These four EISs will amend the following BLM Resource Management Plans (RMPs) and Management Framework Plans (MFPs) and Forest Service Land and Resource Management Plans (LRMP) in the Great Basin Region:

California

• Alturas RMP (2008)

• Eagle Lake RMP (2008)

• Surprise RMP (2008)

Idaho

• Birds of Prey NCA RMP (2008)

• Bruneau RMP revision (and existing 1983 Bruneau MFP)

• Challis RMP (1999)

• Craters of the Moon NM RMP (2006)

• Four Rivers RMP revision (and existing 1988 Cascade RMP and 1983 Kuna and Bruneau MFPs)

• Jarbidge RMP revision (and existing 1987 Jarbidge RMP)

• Lemhi RMP (1987)

• Owyhee RMP (1999)

• Pocatello RMP revision

• Shoshone-Burley RMP revision (and existing 1980 Bennett Hills/Timmerman Hills, 1985 Cassia, 1975 Magic, 1985 Monument, 1981 Sun Valley, and 1982 Twin Falls MFPs/RMPs)

• Upper Snake RMP revision (and existing 1983 Big Lost, 1985 Medicine Lodge, 1981 Big Desert, and 1981 Little Lost-Birch Creek MFPs/RMPs)

• Boise National Forest, LRMP (2003)

• Curlew National Grassland Management Plan, LRMP (2002)

• Caribou National Forest, Revised LRMP (2003)

• Caribou-Targhee National Forest, Targhee National Forest LRMP (1997)

• Salmon-Challis National Forest, Challis National Forest LRMP (1987)

• Salmon-Challis National Forest, Salmon National Forest LRMP (1988)

• Sawtooth National Forest, Revised LRMP (2003)

Montana

• Dillon RMP (2006)

• Beaverhead-Deerlodge National Forest, LRMP (2009)

Nevada

• Battle Mountain RMP revision (and existing 1997 Tonopah and 1986 Shoshone-Eureka RMPs)

• Black Rock Desert-High Rock Canyon NCA RMP (2004)

• Carson City RMP revision (and existing 2001 Carson City Consolidated RMP)

• Elko RMP (1987)

• Ely RMP (2008)

• Wells RMP (1985)

• Winnemucca RMP revision (and existing 1982 Paradise-Denio MFP and 1982 Sonoma-Gerlach RMP)

• Humboldt National Forest, LRMP (1986)

• Toiyabe National Forest, LRMP (1986)

Oregon

• Andrews RMP (2005)

• Baker RMP revision (and existing 1989 Baker RMP)

• Brothers-LaPine RMP (1989)

• Lakeview RMP amendment (and existing 2003 Lakeview RMP)

• Southeastern Oregon RMP amendment (and existing 2003 Southeastern Oregon RMP)

• Steens RMP (2005)

• Three Rivers RMP (1992)

• Upper Deschutes RMP (2005)

Utah

• Box Elder RMP (1986)

• Cedar/Beaver/Garfield/Antimony RMP (1986)

• Grand Staircase-Escalante National Monument Management Plan (2000)

• House Range RMP (1987)

• Kanab RMP (2008)

• Park City MFP (1975)

• Pinyon MFP (1978)

• Pony Express RMP (1990)

• Price RMP (2008)

• Randolph MFP (1980)

• Richfield RMP (2008)

• Salt Lake District Isolated Tracts Planning Analysis (1985)

• Vernal RMP (2008)

• Warm Springs RMP (1987)

• Dixie National Forest, LRMP (1986)

• Fishlake National Forest, LRMP (1986)

• Uinta National Forest, Revised LRMP (2003)

• Wasatch-Cache National Forest, Revised LRMP (2003)

• Ashley National Forest, LRMP (1986)

• Manti-La Sal National Forest, LRMP (1986)

Management decisions made as a result of these Proposed LUPAs/Final EISs will apply only to BLM-administered and National Forest System lands in the planning area. The planning areas for all four EISs includes approximately 194.0 million acres of BLM, National Park Service, Forest Service, U.S. Bureau of Reclamation, State, tribal, local, and private lands located in 28 Idaho counties (Ada, Adams, Bear Lake, Bingham, Blaine, Bonneville, Butte, Camas, Caribou, Cassia, Clark, Custer, Elmore, Fremont, Gem, Gooding, Jefferson, Jerome, Lemhi, Lincoln, Madison, Minidoka, Oneida Owyhee, Payette, Power, Twin Falls, and Washington), 7 Montana counties (Montana, Beaverhead, Deer Lodge, Fremont, Clark, Madison, and Silver Bow), 16 Nevada counties (Carson City, Churchill, Douglas, Elko, Esmeralda, Eureka, Humboldt, Lander, Lincoln, Lyon, Mineral, Nye, Pershing, Storey, Washoe, and White Pine), 5 California counties (Lassen, Modoc, Plumas, Siskiyou, and Sierra), 8 Oregon counties (Baker, Crook, Deschutes, Grant, Harney, Lake, Malheur, and Union), 24 Utah counties (Beaver, Box Elder, Cache, Carbon, Daggett, Duchesne, Emery, Garfield, Grand, Iron, Juab, Kane, Morgan, Piute, Rich, Sanpete, Sevier, Summit, Tooele, Uintah, Utah, Wasatch, Wayne, and Weber), and 2 Wyoming counties (Sweetwater and Uinta). The decision area for these Proposed LUPAs/Final EISs is defined as those BLM-administered and National Forest System lands and Federal mineral estate within the following habitat management categories:

• Priority Habitat Management Area (PHMA)—Areas identified as having the highest conservation value for maintaining sustainable GRSG populations; includes breeding, late brood-rearing, and winter concentration areas.

• Important Habitat Management Area (IHMA) (applicable to Idaho only)—Areas identified as having generally moderate to high conservation value habitat and/or populations that provide a management buffer for the PHMA and to connect patches of PHMA.

• General Habitat Management Area (GHMA)—Areas of seasonal or year-round GRSG habitat outside of PHMAs.

The Notice of Intent (NOI) to prepare the Idaho and Southwestern Montana, Nevada and Northeastern California, Oregon, and Utah Greater Sage-Grouse LUPAs/EISs was published in the Federal Register on December 9, 2011. A Notice of Availability (NOA) for the Idaho and Southwestern Montana, Nevada and Northeastern California, and Utah Draft LUPAs/EISs was published in the Federal Register on November 1, 2013. The Oregon Draft LUPA/EIS was released to the public on November 26, 2013. Comments on the Draft LUPAs/EISs received from the public and internal BLM and Forest Service review were considered and incorporated, as appropriate, into the Proposed Plan.

The alternatives presented in Proposed LUPAs/Final EISs are described below:

• Alternative A would retain the current management goals, objectives and direction specified in the existing BLM RMPs and the Forest Service LRMPs.

• Alternative B is based on the conservation measures developed by the National Technical Team (NTT) planning effort in Washington Office Instructional Memorandum (IM) Number 2012-044. As directed in the IM, the conservation measures developed by the NTT must be considered and analyzed, as appropriate, through the land use planning process and NEPA by all BLM state and field offices that contain occupied GRSG habitat. Most management actions included in Alternative B would be applied to PHMA.

• Alternative C is based on a citizen groups' recommended alternative. This alternative emphasizes improvement and protection of habitat for GRSG and is applied to all occupied GRSG habitat. Alternative C would limit commodity development in areas of occupied GRSG habitat, and would close or designate portions of the planning area to some land uses. The Utah LUPA/Draft EIS combined this alternative with Alternative F (discussed below).

• Alternative D, which was identified as the Preferred Alternative in the Draft EIS, balances opportunities to use and develop the planning area and protects GRSG habitat based on scoping comments and input from Cooperating Agencies involved in the alternatives development process. Protective measures would be applied to GRSG habitat.

• Alternative E is the alternative provided by the State or Governor's offices for inclusion and analysis in the EISs. It incorporates guidance from specific State Conservation strategies and emphasizes management of greater sage-grouse seasonal habitats and maintaining habitat connectivity to support population objectives. This alternative was identified as a co-Preferred Alternative in the Idaho and Southwestern Montana Draft EIS.

• Alternative F is also based on a citizen group recommended alternative. This alternative emphasizes improvement and protection of habitat for GRSG and defines different restrictions for PHMA and GHMA. Alternative F would limit commodity development in areas of occupied GRSG habitat, and would close or designate portions of the planning area to some land uses. This alternative does not apply to the Utah sub-regional planning effort, as it was combined with Alternative C.

• The Proposed LUPA incorporates guidance from specific State Conservation strategies, as well as additional management based on the NTT recommendations. This alternative emphasizes management of GRSG seasonal habitats and maintaining habitat connectivity to support population objectives.

The BLM and Forest Service received approximately 4,990 substantive comments, contained in 74,240 submissions during the four Draft EISs' comment periods. Based on comments received during the NEPA process, the following comment topics were frequently identified:

• General (Process/Policy);

• Lands and Realty;

• Livestock Grazing;

• Minerals and Energy;

• Predation;

• Recreation;

• Socioeconomic;

• Special Management Area Designations;

• Special Status Species (Including GRSG);

• Travel and Access Management;

• Vegetation;

• Wildland Fire Management;

• Wildlife and Fisheries.

For the Idaho and Southwestern Montana GRSG Proposed LUPA/Final EIS, the BLM and Forest Service conducted seven public meetings. These meetings were held in Murphy, Idaho Falls, Salmon, Pocatello, Twin Falls, and Boise in Idaho and Dillon in Montana during January 2014. For the Nevada and Northeastern California GRSG Proposed LUPA/Final EIS, the BLM and Forest Service conducted seven public meetings. These meetings were held in Cedarville and Susanville, California, and in Reno, Tonopah, Ely, Elko, and Winnemucca, Nevada in early December 2013. For the Oregon GRSG Proposed LUPA/Final EIS, the BLM conducted seven public meetings. These meetings were held in Baker City, Burns, Durkee, Jordan Valley, Lakeview, Ontario and Prineville, Oregon during January 2014. For the Utah GRSG Proposed LUPA/Final EIS, the BLM and Forest Service conducted eight public meetings. These meetings were held in Cedar City, Panguitch, Price, Randolph, Richfield, Salt Lake City, Snowville, and Vernal, Utah during November and December 2013. Comments on the Draft LUPAs/Draft EISs received from the public and internal BLM and Forest Service review were carefully considered and incorporated as appropriate into the proposed LUPAs/Final EISs. The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level GRSG mitigation guidance that is consistent with the requirements. The Regional Mitigation Strategy will be developed in a transparent manner, based on the best science available and standardized metrics.

Copies of the Idaho and Southwestern Montana GRSG Proposed LUPA/Final EIS are available for public inspection at:

• BLM Idaho State Office, 1387 S. Vinnell Way, Boise, ID 83709

• BLM Boise District Office, 3948 Development Avenue, Boise, ID 83705

• BLM Owyhee Field Office, 20 First Avenue West, Marsing, ID 83639

• BLM Idaho Falls District Office, 1405 Hollipark Drive, Idaho Falls, ID 83401

• BLM Salmon Field Office, 1206 South Challis Street, Salmon, ID 83467

• BLM Challis Field Office, 1151 Blue Mountain Road, Challis, ID 83226

• BLM Pocatello Field Office, 4350 Cliffs Drive, Pocatello, ID 83204

• BLM Twin Falls District Office, 2536 Kimberly Road, Twin Falls, ID 83301

• BLM Shoshone Field Office, 400 West F Street, Shoshone, ID 83352

• BLM Burley Field Office, 15 East 200 South, Burley, ID 83318

• BLM Coeur d'Alene District Office, 3815 Schreiber Way, Coeur d'Alene, ID 83815

• BLM Cottonwood Field Office, 1 Butte Drive, Cottonwood, ID 83522

• BLM Montana State Office, 5001 Southgate Drive, Billings, MT 59101

• BLM Butte District Office, 106 North Parkmont, Butte, MT 59701

• BLM Dillon Field Office, 1005 Selway Drive, Dillon, MT 59725-9431

• Caribou-Targhee National Forest Headquarters, 1405 Hollipart Drive, Idaho Falls, ID 83401

• Beaverhead-Deerlodge Supervisor's Office, 420 Barrett Street, Dillon, MT 59725

• Salmon-Challis Supervisor's Office, 1206 S. Challis Street, Salmon, ID 83467

• Boise Supervisor's Office, 1206 Vinnell Way, Suite 200, Boise, ID 83709

• Sawtooth Supervisor's Office, 2647 Kimberly Road, East, Twin Falls, ID 83301

Copies of the Nevada and Northeastern California Greater Sage-Grouse Proposed LUPA/Final EIS are available for public inspection at:

• BLM Nevada State Office, 1340 Financial Boulevard, Reno, NV 89502

• BLM Winnemucca District Office, 5100 E. Winnemucca Boulevard, Winnemucca, NV 89445

• BLM Ely District Office, 702 North Industrial Way, Ely, NV 89301

• BLM Elko District Office, 3900 E. Idaho Street, Elko, NV 89801

• BLM Carson City District Office, 5665 Morgan Mill Road, Carson City, NV 89701

• BLM Battle Mountain District Office, 50 Bastian Road, Battle Mountain, NV 89820

• BLM California State Office, 2800 Cottage Way, Suite W-1623, Sacramento, CA 95825

• BLM Alturas Field Office, 708 W. 12th Street, Alturas, CA 96101

• BLM Eagle Lake Field Office, 2950 Riverside Drive, Susanville, CA 96130

• BLM Surprise Field Office, 602 Cressler Street, Cedarville, CA 96104

• Austin Ranger District, 100 Midas Canyon Road, Austin, NV 89310

• Carson Ranger District, 1536 South Carson Street, Carson City, NV 89701

• Ely Ranger District, 825 Avenue East, Ely, NV 90301

• Humboldt-Toiyabe National Forest Headquarters, 1200 Franklin Way, Sparks, NV 89431

• Jarbidge Ranger District, 140 Pacific Avenue, Wells, NV 89835

• Modoc National Forest, 225 West 8th, Alturas, CA 96101

• Mountain City Ranger District, 2035 Last Chance Road, Elko, NV 89801

• Santa Rosa Ranger District, 1200 East Winnemucca Boulevard, Winnemucca, NV 89445

• Tonopah Ranger District, 1400 S. Erie Mian Street, Tonopah, NV 89049

Copies of the Oregon Greater Sage-Grouse Proposed LUPA/Final EIS are available for public inspection at:

• BLM Oregon State Office, 1220 SW. 3rd Avenue, Portland, OR 97204

• BLM Baker Resource Area Office, 3100 H Street, Baker City, OR 97814

• BLM Burns District Office, 28910 Highway 20 West, Hines, OR 97738

• BLM Lakeview District Office, 1301 S. G Street, Lakeview, OR 97630

• BLM Prineville District Office, 3050 NE. 3rd Street, Prineville, OR 97754

• BLM Vale District Office, 100 Oregon Street, Vale, OR 97918

Copies of the Utah Greater Sage-Grouse Proposed LUPA/Final EIS are available for public inspection at:

• BLM Utah State Office, 440 West 200 South, Suite 500, Salt Lake City, UT 84101

• BLM Cedar City Field Office, 176 East D.L. Sargent Drive, Cedar City, UT 84721

• BLM Fillmore Field Office, 95 East 500 North, Fillmore, UT 84631

• BLM Kanab Field Office and Grand Staircase-Escalante National Monument, 669 South Highway 89A, Kanab, UT 84741

• BLM Price Field Office, 125 South 600 West, Price, UT 84501

• BLM Richfield Field Office, 150 East 900 North, Richfield, UT 84701

• BLM Salt Lake Field Office, 2370 S. Decker Lake Boulevard, West Valley City, UT 84119

• BLM Vernal Field Office, 170 South 500 East, Vernal, UT 84078

• Ashley National Forest, 355 N. Vernal Avenue, Vernal, UT 84078

• Dixie National Forest, 1789 N. Wedgewood Lane, Cedar City, UT 84721

• Fishlake National Forest, 115 East 900 North, Richfield, UT 84701

• Manti-LaSal National Forest, 599 West Price River Drive, Price, UT 84501

• Uinta-Wasatch-Cache National Forest, 857 W. South Jordan Parkway, South Jordan, UT 84095

• United States Forest Service Intermountain Region, 324 25th Street, Ogden, UT 84401

Instructions for filing a protest with the Director of the BLM regarding the Proposed LUPAs/Final EISs may be found in the “Dear Reader” Letter of the Proposed LUPAs/Final EISs and at 43 CFR 1610.5-2. All protests must be in writing and mailed to the appropriate address, as set forth in the ADDRESSES section above. Emailed protests will not be accepted as valid protests unless the protesting party also provides the original letter by either regular mail or overnight delivery postmarked by the close of the protest period. Under these conditions, the BLM and Forest Service will consider an emailed protest as an advance copy and it will receive full consideration. If you wish to provide the BLM and Forest Service with such advance notifications, please direct emails to protest@blm.gov.

Before including your address, phone number, email address, or other personal identifying information in your protest, you should be aware that your entire protest—including your personal identifying information—may be made publicly available at any time. While you may ask us in your protest to withhold your personal identifying information from public review, we cannot guarantee that we will be able to do so.

Authority: 36 CFR 219.59, 40 CFR 1506.6, 40 CFR 1506.10, 43 CFR 1610.2; 43 CFR 1610.5

Amy Lueders,
Acting Assistant Director, Renewable Resources & Planning.

[FR Doc. 2015-12948 Filed 5-28-15; 8:45 am]

BILLING CODE 4310-22-P